DEPARTMENT OF HOUSING AND URBAN DEVELOPMENT

[Docket No. FR-7106-N-01]

Privacy Act of 1974; Matching Program

AGENCY: Office of Housing, Multifamily Housing (MFH), and Office of Public and Indian Housing (PIH), Housing and Urban Development (HUD).

ACTION: Notice of a new matching program.

SUMMARY: Pursuant to the Privacy Act of 1974, as amended by the Computer Matching and Privacy Act of 1988 and the Computer Matching and Privacy Protections Amendment of 1990 (Privacy Act), and following the Office of Management and Budget (OMB) guidance on the conduct of matching programs, notice is hereby given of the establishment of a matching program between the U.S. Department of Housing and Urban Development (HUD) and the Department of the Treasury, Bureau of the Fiscal Service, Do Not Pay (DNP) Treasury Working System. This program aims to enhance the detection and prevention of fraud, waste, abuse and improper and unsupported payments in Federal benefit programs administered by HUD.

DATES: Comments on this matching notice must be received no later than 30 days after the date of publication in the Federal Register. If no public comments are received during the period allowed for comment, the new agreement will be effective May 1, 2025, which is a minimum of 30 days after the publication date.

ADDRESSES: Interested persons are invited to submit comments regarding this notice:

• Federal e-Rulemaking Portal: https://www.regulations.gov. Follow the instructions provided on the site to submit comments electronically.

• Fax: 202-619-8365.

• Email: privacy@hud.gov.

Instructions: All submissions received must include the agency name and docket number for this rulemaking. All comments received will be posted without change to https://www.regulations.gov, including any personal information provided.

Docket: For access to the docket to read background documents or comments received, go to https://www.regulations.gov.

FOR FURTHER INFORMATION CONTACT: Bradley S. Jewitt, Senior Agency Official for Privacy, Department of Housing and Urban Development, 451 Seventh Street SW, Room 6204, Washington, DC 20410, telephone number (202) 402-4025. [This is not a toll-free number.] HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: Members of the public desiring specific information concerning an ongoing matching activity may request a copy of the applicable computer matching agreement at the address provided above.

PARTICIPATING AGENCIES: The Department of Housing and Urban Development's (HUD) Office of Housing, Multifamily Housing (MFH), and Office of Public and Indian Housing (PIH); and the Department of the Treasury, Bureau of the Fiscal Service.

AUTHORITY FOR CONDUCTING THE MATCHING PROGRAM: The statutory authorities for the matching program include the Payment Integrity Information Act of 2019 (31 U.S.C. 3351 et seq.), OMB Memorandums M-21-19, M-18-20, the Presidential Memorandum on Enhancing Payment Accuracy through a “Do Not Pay List” (June 18, 2010), and Executive Order 13520 “Reducing Improper Payments and Eliminating Waste in Federal Programs” (November 20, 2009).

PURPOSE(S):The purpose of this Computer Matching Agreement (CMA) is to establish the conditions, safeguards, and procedures under which HUD will conduct a matching program with the Department of the Treasury, Bureau of the Fiscal Service (Fiscal Service), Do Not Pay Business Center (DNP), to provide identifying information through Treasury's Working System. The information will be used by HUD to detect suspected instances of programmatic fraud, waste, and abuse (FW&A). The CMA provides prompt access to up-to-date information and avoids the need for manual file comparison.

CATEGORIES OF INDIVIDUALS:Individuals applying for or receiving benefits under HUD-administered programs.

CATEGORIES OF RECORDS:Data elements will be sent by HUD to Fiscal Service for matching against Treasury's Working System including Tax Identification Number (TIN), entity Name, Person First Name, Person Middle Name, Person Last Name.

SYSTEM(S) OF RECORDS:The records involved in the matching program are maintained in systems including Bureau of the Fiscal Service .017, HUD/PIH-01, HUD/HOU-11, HUD/CFO-03, and HUD/PIH-5.

Ladonne White,
Acting Senior Agency Official for Privacy, Department of Housing & Urban Development.

[FR Doc. 2025-05555 Filed 3-31-25; 8:45 am]

BILLING CODE 4210-67-P